DEPARTMENT OF HEALTH AND HUMAN SERVICES

Health Resources and Services Administration

Chiropractor and Pharmacist Loan Repayment Demonstration Project

AGENCY: Health Resources and Services Administration (HRSA), HHS.

ACTION: General notice.

SUMMARY: The Health Resources and Services Administration (HRSA) announces that applications from qualified chiropractors and pharmacists who agree to serve underserved populations in Primary Care Health Professional Shortage Areas (HPSAs) throughout the Nation will be accepted by the National Health Service Corps (NHSC) for loan repayment awards. A two-year service commitment is required. There is no guarantee that participants in this demonstration project will have an opportunity to continue their service and loan repayments beyond the initial two-year service period. Chiropractors and pharmacists, with qualifying educational loans, must serve at organized primary health care sites in Primary Care HPSAs that have another NHSC clinician on staff who will be concurrently fulfilling an NHSC service commitment through the scholarship or loan repayment program and who is licensed to prescribe medications.

This demonstration project will include an evaluation component to determine whether adding chiropractors and pharmacists as permanent NHSC members would enhance the effectiveness of the NHSC. A maximum of 36 individuals will be awarded loan repayment contracts under this demonstration project.

Purpose: Eligible chiropractors and pharmacists will participate in the Loan Repayment Demonstration Project to determine whether their services will enhance the effectiveness of the NHSC.

Legislative Authority: These applications are solicited under section 338L of the Public Health Service (PHS) Act, as amended by Pub. L. 107-251.

Eligible Applicants: Eligible applicants must (1) be citizens or nationals of the United States, (2) possess a current unrestricted license to practice as a chiropractor or pharmacist in the State in which they intend to practice, (3) be negotiating or have secured employment at an eligible community site, and (4) meet the additional eligibility requirements outlined in the application materials. Chiropractors must also have a doctor of chiropractic degree from a four-year chiropractic college that is currently fully accredited by the Commission on Accreditation of the Council on Chiropractic Education, and successfully passed the entire examination by the National Board of Chiropractic Examiners. Pharmacists must also have a baccalaureate or doctor of pharmacy degree from a school that is currently fully accredited by the American Council on Pharmaceutical Education.

Funding Priorities or Preferences: Priority will be given to (A) applicants who have characteristics that increase the probability of their continuing to practice in HPSAs after they have completed service, and (B) subject to paragraph (A), applicants from disadvantaged backgrounds. A funding preference will also be given to applicants serving Primary Care HPSAs of greatest shortage (based on the HPSA scores).

Statutory Matching or Cost Sharing Requirement: None.

Review Criteria: Loan repayment applications will be evaluated to determine: (1) The eligibility of the applicant, and (2) the applicant's priority for funding.

Estimated Amount of this Competition: $3,000,000.

Estimated Number of Awards: 36.

Estimated or Average Size of Each Award: $75,000.

Estimated Project Period: 2 years.

Application Requests, Availability, Dates and Addresses: Application materials are available for downloading via the web at http://nhsc.bhpr.hrsa.gov. Applicants may also request a hard copy of the application materials by contacting the National Health Service Corps at 1-800-221-9393. All applications must be submitted in hard copy format. Only the original signed copy of the application is required for submission. In order to be considered for an award, applications from chiropractors and pharmacists must be postmarked, or delivered to the HRSA National Health Service Corps, by no later than July 11, 2003. Completed applications must be mailed or delivered to: Division of National Health Service Corps, NHSC Loan Repayment Program, c/o I.Q. Solutions, 11300 Rockville Pike, Suite 801, Rockville, MD, 20852. Applicants should request a legibly dated U.S. Postal Service postmark or obtain a legibly dated receipt from a commercial carrier or U.S. Postal Service. Private metered postmarks shall not be acceptable as proof of timely mailing. Applications postmarked or submitted after the deadline date, or sent to any other address other than that above, will be returned to the applicant and not processed. NHSC will acknowledge receipt of the application if the applicant chooses to complete the notification postcard that is included in the application materials.

Application Availability Date: June 11, 2003.

Application Deadline: July 11, 2003.

Projected Award Date: September 30, 2003.

FOR FURTHER INFORMATION CONTACT: NHSC Loan Repayment Program, 12312-A Wilkins Avenue, Rockville, Maryland, 20852. Telephone: 1-800-221-9393. E-mail: NHSC@hrsa.gov.

Paperwork Reduction Act: The application for the Chiropractor and Pharmacist Loan Repayment Demonstration Project has been approved by the Office of Management and Budget under the Paperwork Reduction Act. The OMB clearance number is 0915-0127. Should the evaluation component involve data collection activities that fall under the purview of the Paperwork Reduction Act, OMB clearance will be sought.

The program is not subject to the provision of Executive Order 12372, Intergovernmental Review of Federal Programs (as implemented through 45 CFR part 100).

Dated: May 22, 2003.
Elizabeth M. Duke,
Administrator.

[FR Doc. 03-14681 Filed 6-10-03; 8:45 am]

BILLING CODE 4165-15-P